DEPARTMENT OF ENERGY

Federal Energy Regulatory Commission

Notice of Intent To File Application for New License

February 2, 2000.

a. Type of Filing: Notice of Intent to File Applications for New License

b. Project No.: 2233

c. Date Filed: December 21, 1999.

d. Applicants: Portland General Electric Company, current licensee.

e. Name of Project: Willamette Falls Hydroelectric Project.

f. Location: On the Willamette River in Clackamas County, Oregon.

g. Filed Pursuant to: Section 15 of the Federal Power Act, 18 CFR 16.6 of the Commission's regulations.

h. Contact: Julie A. Keil, Director of Hydro Licensing and Water Rights, Portland General Electric Company, 121 SW Salmon Street, Portland, OR 97204.

i. Expiration date of original license: December 31, 2004.

j. The project consists of the T.W. Sullivan Development on the west side of the Willamette Falls near the City of West Linn with a total installed capacity of 16 MW, and the Smurfit Development on the east side of the Willamette Falls near Oregon City with a total installed capacity of 1.5 MW.

k. FERC contact: Hector M. Perez, (202) 219-2843.

l. Pursuant to 18 CFR 16.9(b)(1) each application for a new license and any competing license applications must be filed with the Commission at least 24 months prior to the expiration of the existing license. All applications for license for this project must be filed by December 31, 2002.

David P. Boergers,
Secretary.

[FR Doc. 00-2783 Filed 2-7-00; 8:45 am]

BILLING CODE 6717-01-M